DEPARTMENT OF ENERGY

Federal Energy Regulatory Commission

[Docket No. CP09-40-000 PF08-16-000]

Southeast Supply Header, LLC & Southern Natural Gas Company; Notice of Application

January 7, 2009.

Take notice that on December 19, 2008, Southeast Supply Header, LLC (SESH), 5400 Westheimer Court, Houston, Texas 77056 and Southern Natural Gas Company (Southern), P.O. Box 2563, Birmingham, Alabama 35202-2563 filed in the above referenced docket a joint application pursuant to section 7(c) of the NGA and Part 157 of the Commission's regulations, for a certificate of public convenience and necessity to expand by compression a portion of their jointly owned pipeline facilities approved in Docket Nos. CP07-44-000 and CP07-45-000 (JPE Phase II Project), all as more fully set forth in the application which is on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Specifically, SESH/Southern propose to install one additional 15,000 horsepower (HP) compressor and appurtenances at both the Delhi Compressor Station in Richland Parish, Louisiana and the Gwinville Compressor Station in Jefferson Davis County, Mississippi. The applicants state that the JPE Phase II Project will provide an additional 360,000 Dth/d of capacity for Southern on their jointly owned pipeline facilities. The applicants estimate that the expansion will cost Phase II Project is $67,687,059 and propose an in-service date of June 1, 2011.

Any questions concerning this application may be directed to Brian O'Neill, Dewey & LeBoeuf LLP, 1101 New York Avenue, NW., Washington, DC 20005-4213 at (202) 346-8000.

On April 4, 2008, the Commission staff granted SESH's request to utilize the Pre-Filing Process and assigned Docket No. PF08-16-000 to staff activities involved the JPE Phase II Project. Now as of the filing the December 19, 2008 application, the Pre-Filing Process for this project has ended. From this time forward, this proceeding will be conducted in Docket No. CP09-40-000, as noted in the caption of this Notice.

There are two ways to become involved in the Commission's review of this project. First, any person wishing to obtain legal status by becoming a party to the proceedings for this project should, on or before the comment date stated below file with the Federal Energy Regulatory Commission, 888 First Street, NE., Washington, DC. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 28, 2009.

Kimberly D. Bose,
Secretary.

[FR Doc. E9-541 Filed 1-13-09; 8:45 am]

BILLING CODE 6717-01-P